DEPARTMENT OF COMMERCE

National Technical Information Service

Advisory Board of the National Technical Information Service

AGENCY: National Technical Information Service, Commerce.

ACTION: Notice of open meeting.

SUMMARY: This notice announces the next meeting of the Advisory Board of the National Technical Information Service (NTIS) (the Advisory Board), which advises the Secretary of Commerce and the Director of NTIS on policies and operations of NTIS.

DATES: The Advisory Board will meet on Thursday, September 22, 2016 from 1:00 p.m. to approximately 4:00 p.m.

ADDRESSES: The Advisory Board meeting will be held in Room 116 of the NTIS location at 5301 Shawnee Road, Alexandria, Virginia 22312. Please note admittance instructions under the SUPPLEMENTARY INFORMATION section of this notice.

FOR FURTHER INFORMATION CONTACT: Mr. Don Hagen, (703) 605-6142, DHagen@ntis.gov.

SUPPLEMENTARY INFORMATION: The NTIS Advisory Board is established by section 3704b(c) of title 15 of the United States Code. The charter has been filed in accordance with the requirements of the Federal Advisory Committee Act, as amended (5 U.S.C. App.).

The meeting will focus on a review of NTIS data mission and strategic direction. A final agenda and summary of the proceedings will be posted at NTIS Web site as soon as they are available (http://www.ntis.gov/about/advisorybd.aspx).

The NTIS location is a secure one. Accordingly, persons wishing to attend should call the NTIS Security Office, (703) 605-6440, to arrange for attendance no later than Tuesday, September 20, 2016. If there are sufficient expressions of interest, up to one-half hour will be reserved for public comments during the session. Questions from the public will not be considered by the Board but any person who wishes to submit a written question for the Board's consideration should email it to Mr. Don Hagen, DHagen@ntis.gov, Subject: NTIS Advisory Board, not later than Friday, September 16, 2015.

Dated: September 7, 2016.
Gregory Capella,
Deputy Director.

[FR Doc. 2016-21976 Filed 9-12-16; 8:45 am]

BILLING CODE 3510-04-P